DEPARTMENT OF LABOR

Occupational Safety and Health Administration

[Docket No. OSHA-2009-0024]

Information Collection Requirements for the Variance Regulations; Submission for Office of Management and Budget's (OMB) Approval of Information Collection (Paperwork) Requirements

AGENCY: Occupational Safety and Health Administration (OSHA), Labor.

ACTION: Request for public comment.

SUMMARY: OSHA solicits comments concerning its proposal to obtain OMB approval for the information collection requirements contained in Sections 6(b)6(A), 6(b)6(B), 6(b)6(C), 6(d), and 16 of the Occupational Safety and Health Act of 1970, and 29 CFR 1905.10, 1905.11, and 1905.12. These statutory and regulatory provisions specify the requirements for submitting applications to OSHA for temporary, experimental, permanent, and national defense variances.

DATES: Comments must be submitted (postmarked, transmitted, or received) by April 9, 2010.

ADDRESSES: Submit comments as follows:

• Electronically: Submit comments and attachments electronically at http://www.regulations.gov, which is the Federal eRulemaking Portal. Follow the instructions online for submitting comments.

• Facsimile: OSHA allows facsimile transmission of comments, including attachments, that are no longer than 10 pages in length. Send these documents to the OSHA Docket Office at (202) 693-1648; OSHA does not require hard copies of these documents. However, if commenters do not transmit attachments (e.g., studies, journal articles), they must submit one hard copy of the attachments to the OSHA Docket Office, Technical Data Center, Room N-2625, OSHA, U.S. Department of Labor, 200 Constitution Ave., NW., Washington, DC 20910. These attachments must clearly identify the sender's name, date, subject, and docket number (i.e., OSHA-2009-0024) so that the Agency can attach them to the appropriate comments.

• Regular mail, express mail, or messenger or courier service: When using one of these methods, submit one hard copy of comments and attachments (e.g., studies, journal articles) to the OSHA Docket Office, Docket No. OSHA-2009-0024, Technical Data Center, Room N-2625, OSHA, U.S. Department of Labor, 200 Constitution Avenue, NW., Washington, DC 20210 (telephone: 202-693-2350) (TTY: 877-889-5627). Note that security-related procedures may result in significant delays in receiving comments and other written materials by regular mail. Contact the OSHA Docket Office for information about security procedures concerning delivery of materials by express mail, or messenger or courier service. The hours of operation for the OSHA Docket Office are 8:15 a.m.-4:45 p.m., e.t.

• Instructions: All submissions must include the Agency name and the OSHA docket number for this Information Collection Request (ICR) (OSHA Docket No. OSHA-2009-0024). OSHA places comments and other material, including any personal information, in the public docket without revision, and will make this information available online at http://www.regulations.gov. For further information on submitting comments, see section IV (“Public Participation”) of this notice.

• Docket: To read or download comments or other material in the docket, including the companion supporting statement, go to http://www.regulations.gov or the OSHA Docket Office at the address above. However, some information (e.g., copyrighted material) is not publicly available to read or download through this Web site. All submissions, including copyrighted material, are available for inspection and copying at the OSHA Docket Office. Contact the OSHA Docket Office for information about materials not available through the Web site, and for assistance in using the Internet to locate docket submissions.

FOR FURTHER INFORMATION CONTACT: Todd Owen, Directorate of Standards and Guidance, OSHA, Room N-3609, 200 Constitution Avenue, NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (44 U.S.C. 3506(c)(2)(A)). This program ensures that information is in the correct format, reporting burden (time and costs) is minimal, collection instruments are clearly understandable, and OSHA's estimate of the information collection burden is correct. The Occupational Safety and Health Act of 1970 (OSH Act; 29 U.S.C. 651 et seq.) authorizes information collection by employers as necessary or appropriate for enforcement of the OSH Act or developing information regarding the causes and prevention of occupational injuries, illnesses, and accidents (29 U.S.C. 657).

Sections 6(b)6(A), 6(b)6(B), 6(b)6(C), 6(d), and 16 of the OSH Act, and 29 CFR 1905.10, 1905.11, and 1905.12, specify the procedures that employers must follow to apply for a variance from the requirements of an OSHA standard. OSHA uses the information collected under these procedures to: (1) Evaluate the employer's claim that the alternative means of compliance would provide affected employees with the requisite level of health and safety protection; (2) assess the technical feasibility of the alternative means of compliance; (3) determine that the employer properly notified affected employees of the variance application and their right to a hearing; and (4) verify that the application contains the administrative information required by the applicable variance regulation. Currently, no specific forms are available for preparing variance applications and other documents that may accompany variance applications. OSHA is developing new forms to assist employers in preparing variance applications that comply with the information collection requirements contained in the OSH Act and variance regulations.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected;

• Ways to minimize the burden on employers who must comply; for example, by using automated or other technological information collection and transmission techniques; and

• Whether providing variance application forms on the Agency's Web site would reduce the burden on employers applying for variances.

III. Proposed Actions

OSHA is requesting OMB approval for the information collection (paperwork) requirements contained in Sections 6(b)6(A), 6(b)6(B), 6(b)6(C), 6(d), and 16 of the Occupational Safety and Health Act of 1970, and 29 CFR 1905.10, 1905.11, and 1905.12. These statutory and regulatory provisions specify the requirements for submitting applications to OSHA for temporary, experimental, permanent, and national defense variances.

OSHA also is requesting OMB approval to develop and use variance application forms for the four types of variances specified by the OSH Act and variance regulations. The four types of variances are: Temporary variances (Section 6(b)(6)(A) of the Act; 29 U.S.C. 655; 29 CFR 1905.10); experimental variances (Section 6(b)(6)(C) of the Act; 29 U.S.C. 655); permanent variances (Section 6(d) of the Act; 29 U.S.C. 655; 29 CFR 1905.11); and national defense variances (Section 16 of the Act; 29 U.S.C. 665; 29 CFR 1905.12). The variance regulations specify the information that employers must provide when requesting one of these variances. The variance application forms would organize and clarify the information collection requirements for each type of variance by specifying the requirements in comprehensible language, and providing explanatory material. Employers applying for a variance could download and complete the applicable form from OSHA's Web site. The forms would expedite the application process for employers, and ensure that the information on the application is complete and accurate.

The Agency will summarize the comments submitted in response to this notice, and will include this summary in its request to OMB to approve these information collection requirements and variance application forms.

Type of Review: Existing collection in use without an OMB control number.

Title: Information Collection Requirements for the Variance Regulations.

OMB Number: 1218-0NEW.

Affected Public: Business or other for-profit and not-for-profit institutions.

Number of Respondents: 12.

Frequency of Recordkeeping: On occasion.

Total Responses: 12.

Average Time per Response: Ranges from 2 hours for an employer to assemble the application documents to 16 hours to locate and assemble information required to complete an application.

Estimated Total Burden Hours: 366.

Estimated Cost (Operation and Maintenance): $0.

IV. Public Participation: Submission of Comments on This Notice and Internet Access to Comments and Submissions

Submit comments in response to this document: (1) Electronically at http://www.regulations.gov, which is the Federal eRulemaking Portal; (2) by facsimile (fax); or (3) by hard copy. All comments, attachments, and other material must identify the Agency name and the OSHA docket number for the ICR (OSHA Docket No. OSHA-2009-0024). To supplement electronic submissions, upload document files electronically. Send hard copies of materials to supplement electronic or facsimile submissions to the OSHA Docket Office (see the ADDRESSES section of this notice). The additional materials must clearly identify the associated electronic comments by name, date, and docket number so OSHA can attach them to the comments. Note that security-related procedures may result in significant delays in receiving comments and other written materials by regular mail. Contact the OSHA Docket Office at (202) 693-2350 (TTY (877) 889-5627) for information about security procedures concerning delivery of materials by express mail, or messenger or courier service. The hours of operation for the OSHA Docket Office are 8:15 a.m.-4:45 p.m., e.t.

OSHA posts comments and other submissions without revision at http://www.regulations.gov. Therefore, OSHA cautions commenters about submitting personal information such as Social Security numbers and birth dates. Some information (e.g., copyrighted material) is not publicly available to read or download through http://www.regulations.gov. However, all submissions, including copyrighted material, are available for inspection and copying at the OSHA Docket Office. Information on using the http://www.regulations.gov Web site to submit comments and access the docket is available at the Web site's “User Tips” link. Contact the OSHA Docket Office for information about materials not available through the Web site, and for assistance in using the Internet to locate docket submissions.

V. Authority and Signature

David Michaels, PhD, MPH, Assistant Secretary of Labor for Occupational Safety and Health, directed the preparation of this notice. The authority for this notice is the Paperwork Reduction Act of 1995 (44 U.S.C. 3506 et seq.) and Secretary of Labor's Order No. 5-2007 (72 FR 31160).

Signed at Washington, DC, on January 29, 2010.
David Michaels,
Assistant Secretary of Labor for Occupational Safety and Health.

[FR Doc. 2010-2659 Filed 2-5-10; 8:45 am]

BILLING CODE 4510-26-P